DEPARTMENT OF COMMERCE

National Oceanic and Atmospheric Administration

50 CFR Part 665

[Docket No. 080702817-8838-01]

RIN 0648-AX00

Fisheries in the Western Pacific; Western Pacific Pelagic Fisheries; Control Date; Northern Mariana Islands Pelagic Longline Fishery

AGENCY: National Marine Fisheries Service (NMFS), National Oceanic and Atmospheric Administration (NOAA), Commerce.

ACTION: Advance notice of proposed rulemaking; notification of control date; request for comments.

SUMMARY: NMFS announces that anyone who enters the pelagic longline fishery in the Commonwealth of the Northern Mariana Islands (CNMI) after June 19, 2008 (the “control date”), is not guaranteed future participation in the fishery if the Western Pacific Fishery Management Council (Council) recommends, and NMFS approves, a program that limits entry into the fishery, or other fishery management measures. The Council is concerned about potentially-uncontrolled expansion of the CNMI-based pelagic longline fishery and the potential resultant interactions with and impacts on small-boat pelagic fisheries and localized depletion of pelagic fish stocks.

DATES: Comments must be submitted in writing by September 22, 2008.

ADDRESSES: You may submit comments on this action, identified by 0648-AX00, to either of the following addresses:

• Electronic Submission: Submit all electronic public comments via the Federal e-Rulemaking Portal www.regulations.gov; or

• Mail: William L. Robinson, Regional Administrator, NMFS, Pacific Islands Region (PIR), 1601 Kapiolani Blvd., Suite 1110, Honolulu, HI 96814-4700.

Instructions: All comments received are a part of the public record and will generally be posted to www.regulations.gov without change. All personal identifying information (e.g., name, address, etc.) submitted voluntarily by the commenter may be publicly accessible. Do not submit confidential business information, or otherwise sensitive or protected information. NMFS will accept anonymous comments. Attachments to electronic comments will be accepted in Microsoft Word or Excel, WordPerfect, or Adobe PDF file formats only.

FOR FURTHER INFORMATION CONTACT: Brett Wiedoff, NMFS PIR, 808-944-2272.

SUPPLEMENTARY INFORMATION: At its 142nd meeting held from June 16-19, 2008, the Council adopted a control date of June 19, 2008, applicable to persons who are contemplating entering the CNMI-based longline fishery for pelagic fishes. The purpose of the control date is to notify fishermen that after June 19, 2008, they may not be guaranteed access to the fishery if the Council recommends, and NMFS approves, establishing a limited entry program or other measures to manage the fishery. The Council has not yet recommended limiting new entry or imposing any other management measures in this fishery.

This control date addresses the Council's concern over the potential for rapid and uncontrolled expansion of the CNMI longline fishery. This concern is based on previous rapid and uncontrolled expansions of the pelagic longline fisheries in Hawaii and American Samoa, and the resulting concerns about localized deletion of resources and impacts on small-boat fisheries. In Hawaii from 1988 to 1990, the longline fleet doubled from 50 to 100 vessels. In American Samoa from 1996 to 1997, the fleet tripled from 7 to 21 vessels. To control these previous rapid expansions, the Council recommended and NMFS implemented limited entry programs in both of these fisheries (in 1993 and 2004, respectively). The Council adopted the June 19, 2008, control date to notify current and potential fishery participants that it may also consider limiting participation in the CNMI-based longline fishery, if necessary.

Two domestic longline vessels began fishing in U.S. EEZ waters around CNMI in 2007, and other longline vessel operators have expressed interest in fishing there. Some of these other operators already hold the necessary general longline permits issued by NMFS allowing them to participate in the open-access CNMI fishery. If a rapid expansion of the fishery were to occur, there is a potential for gear conflicts between the longline fishery and the CNMI small-boat pelagic troll fishery, which harvests many of the same species targeted by longline vessels. A large and uncontrolled longline fishery could cause localized depletion of pelagic fish stocks, which would jeopardize the sustainability of the small trolling fleet. There is also a potential for longline vessels to fish at the CNMI's offshore seamounts. The seamounts are important to the pelagic trolling fleet, and localized depletion of fish stocks at the seamounts would have significant negative impacts on the troll fishery.

The Council established a control date of June 2, 2005, for pelagic longline and purse seine fisheries in the U.S. EEZ of the western Pacific (70 FR 47782, August 15, 2005) in response to concerns about overfishing of bigeye tuna Pacific-wide and yellowfin tuna in the central and western Pacific. The June 19, 2008, control date supersedes the previous control date, as it applies to the CNMI longline fishery.

The Council and NMFS seek public comment about whether or not a control date is needed, whether this is an appropriate control date, and how the control date might be applied to a future management program for the CNMI-based pelagic longline fishery, if such a program is developed by the Council and NMFS.

Control dates are intended to discourage speculative entry into fisheries, as new participants entering the fisheries after the control date are put on notice that they are not guaranteed future participation in the fisheries. Establishment of this control date does not commit the Council or NMFS to any particular management regime or criteria for entry into the CNMI pelagic longline fishery. Fishermen are not guaranteed future participation in the fishery, regardless of their level of participation before or after the control date. The Council may choose a different control date, or it may choose a management regime that does not involve a control date. Other criteria, such as documentation of landings or sales, may be used to determine eligibility for participation in a limited access fishery. The Council or NMFS also may choose to take no further action to control entry or access to the fishery, in which case the control date may be rescinded.

Classification

This advance notice of proposed rulemaking has been determined to be not significant for the purposes of Executive Order 12866.

Authority: 16 U.S.C. 1801 et seq.

Dated: July 17, 2008.
Samuel D. Rauch III,
Deputy Assistant Administrator For Regulatory Programs, National Marine Fisheries Service.

[FR Doc. E8-16843 Filed 7-22-08; 8:45 am]

BILLING CODE 3510-22-S